DEPARTMENT OF LABOR

Employment and Training Administration

[TA-W-83,367]

Pixel Playground, Inc. Woodland Hills, California; Notice of Affirmative Determination Regarding Application for Reconsideration

By application dated January 26, 2015 a worker requested administrative reconsideration of the negative determination regarding workers' eligibility to apply for worker adjustment assistance applicable to workers and former workers of Pixel Playground, Inc., Woodland Hills, California. The determination was issued on December 9, 2014 and the Notice of Determination was published in the Federal Register on September 29, 2014 (79 FR 58383).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that the firm did not shift the supply of services to a foreign country, that imports of like or directly competitive services did not increase, and that the firm was not a Supplier or Downstream Producer.

The request for reconsideration asserts that workers of Pixel Playground, Inc. were impacted by international competition and increased imports. The request for reconsideration also asserts that the worker group served as a subcontractor supplier to a TAA-certified firm.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 26th day of March, 2015.
Michael W. Jaffe,
Certifying Officer, Office of Trade Adjustment Assistance.

[FR Doc. 2015-09654 Filed 4-24-15; 8:45 am]

BILLING CODE 4510-FN-P